DEPARTMENT OF VETERANS AFFAIRS

Geriatric and Gerontology Advisory Committee, AMENDED, Notice of Meeting

The Department of Veterans Affairs (VA) gives notice under the Federal Advisory Committee Act that a meeting of the Geriatric and Gerontology Advisory Committee will be held on Wednesday, April 1, 2020 from 12 p.m. to 5 p.m. (Eastern Daylight Time). This meeting will be virtual and open to the public.

The purpose of the Committee is to provide advice to the Secretary of VA and the Under Secretary for Health on all matters pertaining to geriatrics and gerontology. The Committee assesses the capability of VA health care facilities and programs to meet the medical, psychological, and social needs of older Veterans, and evaluates VA programs designated as Geriatric Research, Education, and Clinical Centers.

Although no time will be allocated for receiving oral presentations from the public, members of the public may submit written statements for review by the Committee to: Ms. Marianne Shaughnessy, CRNP, Ph.D., Designated Federal Officer, Veterans Health Administration (10NC4), 810 Vermont Avenue NW, Washington, DC 20420 or by email at Marianne.Shaughnessy@va.gov. Comments will be accepted until close of business on March 27, 2020. In the communication, the writers must identify themselves and state the organization, association of person(s) they represent.

Any member of the public wishing to attend virtually or seeking additional information should email Marianne.Shaughnessy@va.gov or call 202-461-7217, no later than close of business on March 27, 2020 to provide their name, professional affiliation, email address and phone number. The call-in number is 1-800-767-1750; Access Code: 17499#.

Dated: March 13, 2020.
LaTonya L. Small,
Federal Advisory Committee Management Officer.

[FR Doc. 2020-05605 Filed 3-17-20; 8:45 am]

BILLING CODE 8320-01-P